DEPARTMENT OF HEALTH AND HUMAN SERVICES

Centers for Disease Control and Prevention

Meeting of the Community Preventive Services Task Force (Task Force)

AGENCY: Centers for Disease Control and Prevention (CDC), Department of Health and Human Services (HHS).

ACTION: Notice of meeting; correction.

SUMMARY: The Centers for Disease Control and Prevention (CDC) published a document in the Federal Register of September 17, 2013, announcing the next meeting of the Community Preventive Services Task Force (Task Force). The document did not contain the registration information.

Correction

In the Federal Register of September 17, 2013, in FR Doc. 2013-22581, on page 57161, in the third column, correct the FOR FURTHER INFORMATION CONTACT caption to read:

FOR FURTHER INFORMATION AND TO RSVP CONTACT: Andrea Baeder, The Community Guide Branch, Division of Epidemiology, Analysis, and Library Services (proposed), Center for Surveillance, Epidemiology and Laboratory Services (proposed), Office of Public Health Scientific Services (proposed), Centers for Disease Control and Prevention, 1600 Clifton Road, MS-E-69, Atlanta, GA 30333, phone: (404) 498-498-6876, email: CPSTF@cdc.gov.

In the Federal Register of September 17, 2013, in FR Doc. 2013-22581, on page 57161, in the third column, and on page 57162, in the first column, correct the SUPPLEMENTARY INFORMATION caption to read:

SUPPLEMENTARY INFORMATION:

Purpose: The purpose of the meeting is for the Task Force to consider the findings of systematic reviews and issue findings and recommendations to help inform decision making about policy, practice, and research in a wide range of U.S. settings.

Matters to be discussed: Cancer prevention and control, cardiovascular disease prevention and control, diabetes prevention and control, motor vehicle-related injury prevention, and promoting physical activity.

Meeting Accessibility: This meeting is open to the public, limited only by space availability. All meeting attendees must RSVP to ensure the required security procedures are completed to gain access to the CDC's Global Communications Center.

U.S. citizens must RSVP by 10/9/2013.

Non U.S. citizens must RSVP by 10/2/2013 due to additional security steps that must be completed.

Failure to RSVP by the dates identified could result in an inability to attend the Task Force meeting due to the strict security regulations on federal facilities.

Roybal Campus Security Guidelines

The Edward R. Roybal Campus is the headquarters of the U.S. Centers for Disease Control and Prevention and is located at 1600 Clifton Road, NE., Atlanta, Georgia. The meeting is being held in a Federal government building; therefore, Federal security measures are applicable.

All meeting attendees must RSVP by the dates outlined under MEETING ACCESSIBILITY. In planning your arrival time, please take into account the need to park and clear security. All visitors must enter the Roybal Campus through the entrance on Clifton Road; the guard force will direct visitors to the designated parking area. Upon arrival at the facility, visitors must present government issued photo identification (e.g., a valid federal identification badge, state driver's license, state non-driver's identification card, or passport). Non-United States citizens must complete the required security paperwork prior to the meeting date and must present a valid passport, visa, Permanent Resident Card, or other type of work authorization document upon arrival at the facility. All persons entering the building must pass through a metal detector. Visitors will be issued a visitor's ID badge at the entrance to Building 19 and will be escorted in groups of 5-10 persons to the meeting room. All items brought to HHS/CDC are subject to inspection.

Dated: September 24, 2013.
Tanja Popovic,
Deputy Associate Director for Science, Centers for Disease Control and Prevention.

[FR Doc. 2013-23730 Filed 9-27-13; 8:45 am]

BILLING CODE 4163-18-P